DEPARTMENT OF COMMERCE

United States Patent and Trademark Office

[Docket No. 2003-C-014]

Revision of the United States Patent and Trademark Office Seal

AGENCY: United States Patent and Trademark Office, Commerce.

ACTION: Notice; Revision of agency seal.

SUMMARY: The United States Patent and Trademark Office revises its agency seal.

ADDRESSES: Director of the United States Patent and Trademark Office, P.O. Box 1450, Alexandria, VA 22313-1450.

FOR FURTHER INFORMATION CONTACT: Mr. Richard Maulsby at (703) 305-8341.

SUPPLEMENTARY INFORMATION: The USPTO is revising its official seal established under 35 U.S.C. 2(b)(1). Effective October 1, 2003, the USPTO adopts the following as its seal with which letters patent, certificates of trademark registrations, and papers issued by USPTO will be authenticated and which shall be judicially noticed:

Dated: August 26, 2003.
James E. Rogan,
Under Secretary of Commerce for Intellectual Property and Director of the United States Patent and Trademark Office.

[FR Doc. 03-22291 Filed 8-29-03; 8:45 am]

BILLING CODE 3510-16-P